DEPARTMENT OF LABOR

Office of Workers' Compensation Programs

Agency Information Collection Activities; Comment Request; Representative Payee Report, Representative Payee Report (Short Form), and Physician's/Medical Officer's Statement

ACTION: Notice of availability; request for comments.

SUMMARY: The Department of Labor (DOL) is soliciting comments concerning a proposed extension of the information collection request (ICR) titled, “Representative Payee Report, Representative Payee Report (Short Form), and Physician's/Medical Officer's Statement.” This comment request is part of continuing Departmental efforts to reduce paperwork and respondent burden in accordance with the Paperwork Reduction Act of 1995 (PRA).

DATES: Consideration will be given to all written comments received by March 1, 2021.

ADDRESSES: A copy of this ICR with applicable supporting documentation; including a description of the likely respondents, proposed frequency of response, and estimated total burden may be obtained free by contacting Anjanette Suggs by telephone at (202) 354-9660 (this is not a toll-free number) or by email at suggs.anjanette@dol.gov.

Submit written comments about, or requests for a copy of, this ICR by mail or courier to the U.S. Department of Labor, Office of Workers' Compensation Program, Division of Coal Mine Workers' Compensation, Room N1301, 200 Constitution Avenue NW, Washington, DC 20210; by email: suggs.anjanette@dol.gov.

FOR FURTHER INFORMATION CONTACT: Contact Anjanette Suggs by telephone at (202) 354-9660 (this is not a toll-free number) or by email at suggs.anjanette@dol.gov.

SUPPLEMENTARY INFORMATION: The DOL, as part of continuing efforts to reduce paperwork and respondent burden, conducts a pre-clearance consultation program to provide the general public and Federal agencies an opportunity to comment on proposed and/or continuing collections of information before submitting them to the OMB for final approval. This program helps to ensure requested data can be provided in the desired format, reporting burden (time and financial resources) is minimized, collection instruments are clearly understood, and the impact of collection requirements can be properly assessed.

Benefits due to a DOL Black Lung beneficiary are paid to a representative payee on behalf of the beneficiary when he or she is unable to manage the benefits due to incapability or incompetence or because the beneficiary is a minor. The Representative Payee Report (Form CM-623) and Representative Payee Report Short Form (Form CM-623S) are used to ensure that benefits paid to a representative payee are used for the beneficiary's well-being. The Physician's/Medical Officer's Statement (Form CM-787) is used to determine the beneficiary's capability to manage monthly black lung benefits. The Black Lung Benefits Act, 30 U.S.C. 922, authorizes this information collection.

This information collection is subject to the PRA. A Federal agency generally cannot conduct or sponsor a collection of information, and the public is generally not required to respond to an information collection, unless it is approved by the OMB under the PRA and displays a currently valid OMB Control Number. In addition, notwithstanding any other provisions of law, no person shall generally be subject to penalty for failing to comply with a collection of information that does not display a valid Control Number. See 5 CFR 1320.5(a) and 1320.6.

Interested parties are encouraged to provide comments to the contact shown in the ADDRESSES section. Comments must be written to receive consideration, and they will be summarized and included in the request for OMB approval of the final ICR. In order to help ensure appropriate consideration, comments should mention 1240-0020.

Submitted comments will also be a matter of public record for this ICR and posted on the internet, without redaction. The DOL encourages commenters not to include personally identifiable information, confidential business data, or other sensitive statements/information in any comments.

The DOL is particularly interested in comments that:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: DOL-OWCP.

Type of Review: Extension.

Title of Collection: Representative Payee Report, Representative Payee Report (Short Form), and Physician's/Medical Officer's Statement.

Form: Representative Payee Report (CM-623), Representative Payee Report (Short Form) (CM-623S) and Physician's/Medical Officer's Statement (CM-787).

OMB Control Number: 1240-0020.

Affected Public: Individuals or Households.

Estimated Number of Respondents: 1,325.

Frequency: Annual.

Total Estimated Annual Responses: 1,325.

Estimated Average Time per Response: Varies.

Estimated Total Annual Burden Hours: 679 hours.

Total Estimated Annual Other Cost Burden: $0.

Authority: 44 U.S.C. 3506(c)(2)(A).

Anjanette Suggs,
Agency Clearance Officer.

[FR Doc. 2020-28897 Filed 12-29-20; 8:45 am]

BILLING CODE 4510-CK-P